DEPARTMENT OF JUSTICE

Notice of Filing of Proposed Settlement Agreement Under the Comprehensive Environmental Response, Compensation and Liability Act and the United States Bankruptcy Code

On November 21, 2013, the Trustees for the bankruptcy estates of Port Arthur Chemical & Environmental Services, LLC (“PACES”) and CES Environmental Services, Inc. (“CES”) filed a proposed Settlement Agreement with the United States Bankruptcy Court for the Southern District of Texas in the matters entitled In re: CES Environmental Services, Inc., Case No. 10-36924-H4-7 and In re: Port Arthur Chemical & Environmental Services, LLC, Case No. 10-36978-H4-7.

The United States is seeking recovery of response cost incurred as part of an emergency removal action conducted on a site owned by the PACES estate in Port Arthur, Jefferson County, Texas at 2420 South Gulfway Drive under CERCLA Section 107(a) and Section 503 of the Bankruptcy Code. The United States' incurred a total of approximately $1.875 million in response costs. The Settlement Agreement provides that the United States will recover $1.4 million on a sale of certain real property owned by the estate for $3.75. Should the property sell for more than $3.75 million, the United States will recover a proportion of sale proceeds above that amount until the United States recovers a total of $1.875 million.

The publication of this notice opens a period for public comment on the Settlement Agreement. Comments should be addressed to the Assistant Attorney General, Environment and Natural Resources Division, and should refer to In re Port Arthur Chemical & Environmental Services, LLC, D.J. Ref. No. 90-11-3-10667/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Settlement Agreement may be examined and downloaded at this Justice Department Web site: http://www.usdoj.gov/enrd/Consent_Decrees.html. A paper copy of the Consent Decree will be provided upon written request and payment of reproduction costs. Please mail your request and payment to: Consent Decree Library, U.S. DOJ—ENRD, P.O. Box 7611, Washington, DC 20044-7611.

Please enclose a check or money order for $17.25 (25 cents per page reproduction cost) payable to the United States Treasury.

Thomas P. Carroll,
Assistant Chief, Environmental Enforcement Section, Environment and Natural Resources Division.

[FR Doc. 2013-28500 Filed 11-26-13; 8:45 am]

BILLING CODE 4410-15-P